ENVIRONMENTAL PROTECTION AGENCY

40 CFR Part 51

[AH-FRL-6540-1]

Technical Amendment: Requirements for Preparation, Adoption, and Submittal of State Implementation Plans

AGENCY: Environmental Protection Agency (EPA).

ACTION: Technical amendment.

SUMMARY: In today's action we correct a text error in the regulations on Requirements for Preparation, Adoption, and Submittal of State Implementation Plans. This error results from an omission in making conforming amendments when subpart D was removed in 1995.

DATES: This technical amendment is effective on February 22, 2000.

FOR FURTHER INFORMATION CONTACT: Tom Coulter, Air Quality Modeling Group (MD-14), Office of Air Quality Planning and Standards, U.S. Environmental Protection Agency, Research Triangle Park, NC 27711; telephone (919) 541-0832.

SUPPLEMENTARY INFORMATION:

Background

On March 4, 1995 the President directed all Federal agencies and departments to conduct a comprehensive review of the regulations they administer and, by June 1, 1995, to identify those rules that are obsolete or unduly burdensome. EPA conducted a review of all of its rules, including rules issued under the Clean Air Act (CAA), as amended (42 U.S.C. 7401 et seq.). Based on this review, we issued on June 29, 1995 a final rule that eliminated a number of obsolete CAA rules from the CFR. These rules were no longer legally in effect because (1) they implemented statutory provisions which have been repealed, (2) they expired by their own terms or by the terms of the statute, or (3) they were vacated (i.e., declared void and of no effect) by a court.

Because it was superseded by section 175A of the 1991 CAA, which provides the requirements for maintenance plans, we decided to include subpart D of 40 CFR Part 51, Maintenance of National Standards, in these removals (60 FR 33915). This subpart covered a discussion of Air Quality Maintenance Areas (AQMA) and included §§ 40-63. This removal was reflected in the July 1995 issue of the Code of Federal Regulations. Paragraph (d)(6) of § 51.102 refers to materials that were removed with the subpart D deletion, specifically, AQMA (paragraph (d)(6)(ii)) and § 51.63 itself. We failed to include this paragraph along with the removal of subpart D.

Final Action

To correct this error, we are removing paragraph (d)(6) from § 51.102 which relates to the case of hearings on AQMA plans. The action merely makes a conforming correction to eliminate CFR references to provisions that no longer exist. Because this action is a technical, non-substantive correction, we have made a “good cause” finding under section 553(b)(B) of the Administrative Procedures Act that notice and public procedure are unnecessary. We are thus issuing this correction notice without prior proposal because the Agency views it as non-controversial and anticipates no adverse comments.

Administrative Requirements

Under Executive Order 12866 (58 FR 51735, October 4, 1993), this action is not a “significant regulatory action” and is therefore not subject to review by the Office of Management and Budget. Because the agency has made a “good cause” finding that this action is not subject to notice-and-comment requirements under the Administrative Procedure Act or any other statute (see Final Action), it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act (CRA; 5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement (5 U.S.C. 808(2)). As stated previously, EPA has made such a good cause finding, including the reasons therefor, and established an effective date of February 22, 2000.

EPA will submit a report containing this rule and other required information to the U.S. Senate, the U.S. House of Representatives, and the Comptroller General of the United States prior to publication of the rule in the Federal Register. This action is not a “major rule” as defined by 5 U.S.C. 804(2).

List of Subjects in 40 CFR Part 51

Environmental protection, Administrative practice and procedure, Air pollution control, Carbon monoxide, Intergovernmental relations, Lead, Nitrogen oxides, Ozone, Particulate matter, Reporting and recordkeeping requirements, Sulfur oxides.

Dated: February 10, 2000.
Robert A. Perciasepe,
Assistant Administrator, Office of Air and Radiation.

Part 51, chapter I, title 40 of the Code of Federal Regulations is amended as follows:

PART 51—REQUIREMENTS FOR PREPARATION, ADOPTION, AND SUBMITTAL OF IMPLEMENTATION PLANS

1. The authority citation for part 51 continues to read as follows:

Authority: 42 U.S.C. 7401-7671q.

2. Section 51.102 is amended by removing paragraph (d)(6).

[FR Doc. 00-4047 Filed 2-18-00; 8:45 am]

BILLING CODE 6560-50-P